NUCLEAR REGULATORY COMMISSION

[Docket No. NRC-2013-0279]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on December 30, 2013.

1. Type of submission, new, revision, or extension: Extension.

2. The title of the information collection: 10 CFR Part 19, “Notices, Instructions, and Reports to Workers: Inspection and Investigations.”

3. Current OMB approval number: 3150-0044.

4. The form number if applicable: Not applicable.

5. How often the collection is required: As necessary in order that adequate and timely reports of radiation exposure be made to individuals involved in applicable NRC-licensed activities.

6. Who will be required or asked to report: Licensees authorized to receive, possess, use, or transfer material licensed by the NRC.

7. An estimate of the number of annual responses: 1,426,121.8 responses (1,405,114.8 third-party disclosures + 7 reporting responses + 21,000 recordkeepers).

8. The estimated number of annual respondents: 21,000 (3,000 NRC licensees + 18,000 Agreement State licensees).

9. An estimate of the total number of hours needed annually to complete the requirement or request: 329,273.7.

10. Abstract: Part 19 of Title 10 of the Code of Federal Regulations (10 CFR), requires licensees to advise workers on an annual basis of any radiation exposure in excess of 1 mSv (100 mrem) they may have received as a result of NRC-licensed activities or when certain conditions are met. These conditions apply during termination of the worker's employment, at the request of the workers, former workers, or when the worker's employer (the NRC licensee) must report radiation exposure information on the worker to the NRC. Part 19 also establishes requirements for instructions by licensees to individuals participating in licensed activities and options available to these individuals in connection with Commission inspections of licensees to ascertain compliance with the provisions of the Atomic Energy Act of 1954, as amended, Title II of the Energy Reorganization Act of 1974, and regulations, orders and licenses there under regarding radiological working conditions. The worker should be informed of the radiation dose he or she receives because: (a) That information is needed by both a new employer and the individual when the employee changes jobs in the nuclear industry; (b) the individual needs to know the radiation dose received as a result of the accident or incident (if this dose is in excess of the 10 CFR Part 20 limits) so that he or she can seek counseling about future work involving radiation, medical attention, or both, as desired; and (c) since long-term exposure to radiation may be an adverse health factor, the individual needs to know whether the accumulated dose is being controlled within the NRC limits. The worker also needs to know about health risks from occupational exposure to radioactive materials or radiation, precautions or procedures to minimize exposure, worker responsibilities and options to report any licensee conditions which may lead to or cause a violation of Commission regulations, and individual radiation exposure reports which are available to him.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC home page site for 60 days after the signature date of this notice.

Comments and questions should be directed to the OMB reviewer listed below by May 23, 2014. Comments received after this date will be considered if it is practical to do so, but assurance of consideration cannot be given to comments received after this date.

Danielle Y. Jones, Desk Officer, Office of Information and Regulatory Affairs (3150-0044), NEOB-10202, Office of Management and Budget, Washington, DC 20503.

Comments can also be emailed to Danielle_Y_Jones@omb.eop.gov or submitted by telephone at 202-395-1741.

The Acting NRC Clearance Officer is Kristen Benney, telephone: 301-415-6355.

Dated at Rockville, Maryland, this 17th day of April 2014.
For the Nuclear Regulatory Commission.
Kristen Benney,
Acting NRC Clearance Officer, Office of Information Services.

[FR Doc. 2014-09192 Filed 4-22-14; 8:45 am]

BILLING CODE 7590-01-P